FEDERAL COMMUNICATIONS COMMISSION

Sunshine Act Meeting

March 7, 2002.

Deletion of Agenda Item From March 14th Open Meeting

The following item has been deleted from the list of agenda items scheduled for consideration at Open Meeting and previously listed in the Commission's Notice of March 7, 2002.

Item No., Bureau, and Subject

6—Wireless Telecommunications and Office of Engineering and Technology—Title: Amendment of Parts 2 and 25 of the Commission's Rules to Permit Operation of NGSO FSS Systems Co-Frequency with GSO and Terrestrial Systems in the Ku-Band Frequency Range (ET Docket No. 98-206; RM-9147 and RM-9245); Amendment of the Commission's Rules to Authorize Subsidiary Terrestrial Use of the 12.2-12.7 GHz Band by Direct Broadcast Satellite Licensees and Their Affiliates; and Applications of Broadwave USA, PDC Broadband Corporation, and Satellite Receivers, Ltd. to Provide A Fixed Service in the 12.2-12.7 GHz Band. Summary: The Commission will consider further action regarding the new Multichannel Video Distribution and Data Service (MVDDS) in the 12.2-12.7 GHz band.

Federal Communications Commission.
William F. Caton,
Acting Secretary.

[FR Doc. 02-6030 Filed 3-08-02; 2:17 pm]

BILLING CODE 6712-01-P